DEPARTMENT OF AGRICULTURE

Submission for OMB Review; Comment Request

July 27, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by August 31, 2017 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food Safety and Inspection Service

Title: Modernization of Poultry Slaughter Inspection.

OMB Control Number: 0583-0156.

Summary of Collection: The Food Safety and Inspection Service (FSIS) has been delegated the authority to exercise the functions of the Secretary as provided in the Poultry Products Inspection Act (PPIA) (21 U.S.C. 451 et seq.). These statutes mandate that FSIS protect the public by ensuring that meat and poultry products are safe, wholesome, unadulterated, and properly labeled and packaged.

Need and Use of the Information: FSIS requires that all poultry slaughter establishments develop, implement, and maintain, as part of their HACCP plans, or Sanitation SOPs, or other prerequisite programs, written procedures to prevent contamination of carcasses and parts by enteric pathogens, e.g., Salmonella and Campylobacter, and fecal material throughout the entire slaughter and dressing operation. FSIS requires that these procedures include sampling for microbial organisms at the pre-chill and post-chill points in the process to monitor establishments' process control for enteric pathogens, except for low volume establishments that are required to test only at post-chill. If the information was not collected or collected less frequently it would reduce the effectiveness of the poultry products inspection program.

Description of Respondents: Business or other for-profit.

Number of Respondents: 3,001,920.

Frequency of Responses: Recordkeeping; Reporting: On occasion.

Total Burden Hours: 191,204.

Ruth Brown,
Departmental Information Collection Clearance Officer.

[FR Doc. 2017-16146 Filed 7-31-17; 8:45 am]

BILLING CODE 3410-DM-P